DEPARTMENT OF VETERANS AFFAIRS

[OMB Control No. 2900-0004]

Agency Information Collection Activity Under OMB Review

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument. Collections under review include: Application for Dependency and Indemnity Compensation, Survivors Pension and Accrued Benefits by a Surviving Spouse or Child (Including Death Compensation if Available); Application for Dependency and Indemnity Compensation by a Surviving Spouse or Child—In-Service Death Only; and Application for DIC, Survivors Pension, and/or Accrued Benefits.

DATES: Written comments and recommendations for the proposed information collection should be sent within 30 days of publication of this notice to www.reginfo.gov/public/do/PRAMain. Find this particular information collection by selecting “Currently under 30-day Review—Open for Public Comments” or by using the search function. Refer to “OMB Control No. 2900-0004.

FOR FURTHER INFORMATION CONTACT: Maribel Aponte, Office of Enterprise and Integration, Data Governance Analytics (008), 1717 H Street NW, Washington, DC 20006, (202) 266-4688 or email maribel.aponte@va.gov. Please refer to “OMB Control No. 2900-0004” in any correspondence.

SUPPLEMENTARY INFORMATION:

Authority: Title 38 U.S.C. 1151; 1310; 1541; 1542; 5101(a); and 5121.

Title:

21P-534 | Application for Dependency and Indemnity Compensation, Survivors Pension and Accrued Benefits by a Surviving Spouse or Child (Including Death Compensation if Available).
21P-534a | Application for Dependency and Indemnity Compensation by a Surviving Spouse or Child—In-Service Death Only.
21P-534EZ | Application for DIC, Survivors Pension, and/or Accrued Benefits.

OMB Control Number: 2900-0004.

Type of Review: Revision of a currently/previously approved collection.

Abstract: The VA Form 21P-534 is used to gather the necessary information to determine the eligibility of surviving spouses and children for dependency and indemnity compensation (DIC), death pension, accrued benefits, and death compensation. VA Form 21P-534a is an abbreviated application for DIC that is used only by surviving spouses and children of veterans who died while on active duty service. The VA Form 21P-534EZ is used for the Fully Developed Claims (FDC) program for pension claims, DIC and accrued claims.

VA Form 21P-534EZ has been updated, to include:

• Removed all Parent's DIC questions from the form as this will be covered under the VA Form 21-535, Application for Dependency and Indemnity Compensation by Parent(s) (Including Accrued Benefits and Death Compensation When Applicable).

• Updated instructions.

• Added an optional use Survivors Benefits Application Checklist for applicant's benefit to assist in organizing submission of claim.

• Separated Section I and II to include Veteran's Identification Information/Claimant's Identification Information.

• Removed questions—How many times veteran married?/How many times claimant married? as regulations allow.

• Removed mailing address of nursing home or facility from Section VIII as this is covered in the Worksheet the claimant is directed to complete.

• Added an income source section and updated Section IV instructions to reflect this change.

• Added an Alternate Signer Certification and Signature (Section XVI).

• Restructured Worksheet for An Assisted Living, Adult Daycare, or a Similar Facility and Worksheet for In-Home Attendant Expenses and questions removed for better clarity.

• New standardization data points; to include optical character recognition boxes. This is a non-substantive change.

• The burden has been increased from 25 to 40 minutes as the 25 minute time frame did not fit the length of this form.

No changes have been made to the VA Form 21P-534, and VA Form 21P-534a. An agency may not conduct or sponsor, and a person is not required to respond to a collection of information unless it displays a currently valid OMB control number. The Federal Register Notice with a 60-day comment period soliciting comments on this collection of information was published at 87 FR 17139 on March 25, 2022, pages 17139-17140.

Affected Public: Individuals and households.

Estimated Annual Burden: 130,138 hours.

Estimated Average Burden per Respondent: 43 minutes.

Frequency of Response: On occasion.

Estimated Number of Respondents: 181,588.

By direction of the Secretary.
Maribel Aponte,
VA PRA Clearance Officer, Office of Enterprise and Integration, Data Governance Analytics, Department of Veterans Affairs.

[FR Doc. 2022-11428 Filed 5-26-22; 8:45 am]

BILLING CODE 8320-01-P